DEPARTMENT OF HEALTH AND HUMAN SERVICES

Centers for Medicare & Medicaid Services

[Document Identifier: Document Identifiers: CMS-40B, CMS-10102, CMS-10866, and CMS-R-21]

Agency Information Collection Activities: Submission for OMB Review; Comment Request

AGENCY: Centers for Medicare & Medicaid Services, Health and Human Services (HHS).

ACTION: Notice.

SUMMARY: The Centers for Medicare & Medicaid Services (CMS) is announcing an opportunity for the public to comment on CMS' intention to collect information from the public. Under the Paperwork Reduction Act of 1995 (PRA), federal agencies are required to publish notice in the Federal Register concerning each proposed collection of information, including each proposed extension or reinstatement of an existing collection of information, and to allow a second opportunity for public comment on the notice. Interested persons are invited to send comments regarding the burden estimate or any other aspect of this collection of information, including the necessity and utility of the proposed information collection for the proper performance of the agency's functions, the accuracy of the estimated burden, ways to enhance the quality, utility, and clarity of the information to be collected, and the use of automated collection techniques or other forms of information technology to minimize the information collection burden.

DATES: Comments on the collection(s) of information must be received by the OMB desk officer by December 26, 2023.

ADDRESSES: Written comments and recommendations for the proposed information collection should be sent within 30 days of publication of this notice to www.reginfo.gov/public/do/PRAMain. Find this particular information collection by selecting “Currently under 30-day Review—Open for Public Comments” or by using the search function.

To obtain copies of a supporting statement and any related forms for the proposed collection(s) summarized in this notice, please access the CMS PRA website by copying and pasting the following web address into your web browser: https://www.cms.gov/Regulations-and-Guidance/Legislation/PaperworkReductionActof1995/PRA-Listing.

FOR FURTHER INFORMATION CONTACT: William Parham at (410) 786-4669.

SUPPLEMENTARY INFORMATION: Under the Paperwork Reduction Act of 1995 (PRA) (44 U.S.C. 3501-3520), federal agencies must obtain approval from the Office of Management and Budget (OMB) for each collection of information they conduct or sponsor. The term “collection of information” is defined in 44 U.S.C. 3502(3) and 5 CFR 1320.3(c) and includes agency requests or requirements that members of the public submit reports, keep records, or provide information to a third party. Section 3506(c)(2)(A) of the PRA (44 U.S.C. 3506(c)(2)(A)) requires federal agencies to publish a 30-day notice in the Federal Register concerning each proposed collection of information, including each proposed extension or reinstatement of an existing collection of information, before submitting the collection to OMB for approval. To comply with this requirement, CMS is publishing this notice that summarizes the following proposed collection(s) of information for public comment:

1. Type of Information Collection Request: Revision of a currently approved collection; Title of Information Collection: Application for Enrollment in Medicare Part B (Medical Insurance); Use: Medicare Part B is a voluntary program, financed from premium payments by enrollees, together with contributions from funds appropriated by the Federal government. The Social Security Act (the Act) at section 226(a) provides that individuals who are age 65 or older and eligible for, or entitled to, Social Security or Railroad Retirement Board (RRB) benefits shall be entitled to premium-free Part A upon filing an application for such benefits. Section 1836 of the Act permits individuals with Medicare premium-free Part A to enroll in Part B.

The CMS-40B provides the necessary information to determine eligibility and to process the beneficiary's request for enrollment for Medicare Part B coverage. This form is only used for enrollment by beneficiaries who already have Part A, but not Part B. Form CMS-40B is completed by the person with Medicare or occasionally by an SSA representative using information provided by the Medicare enrollee during an in-person interview. The form is owned by CMS, but not completed by CMS staff. SSA processes Medicare enrollments on behalf of CMS. Form Number: CMS-40B (OMB control number: 0938-1230); Frequency: Once; Affected Public: Individuals or households; Number of Respondents: 1,132,000; Number of Responses: 1,132,000; Total Annual Hours: 192,440. (For policy questions regarding this collection, contact Candace Carter at 410-786-8466.)

2. Type of Information Collection Request: Extension without change of currently approved collection; Title of Information Collection: National Implementation of the Hospital Consumer Assessment of Healthcare Providers and Systems (HCAHPS) Survey; Use: The HCAHPS (Hospital Consumer Assessment of Healthcare Providers and Systems) Survey is the first national, standardized, publicly reported survey of patients' perspectives of their hospital care. HCAHPS is a 29-item survey instrument and data collection methodology for measuring patients' perceptions of their hospital experience. Since 2008, HCAHPS has allowed valid comparisons to be made across hospitals locally, regionally and nationally.

Three broad goals have shaped HCAHPS. First, the standardized survey and implementation protocol produce data that allow objective and meaningful comparisons of hospitals on topics that are important to consumers. Second, public reporting of HCAHPS results creates new incentives for hospitals to improve quality of care. Third, public reporting enhances accountability in health care by increasing transparency of the quality of hospital care provided in return for the public investment. Form Number: CMS-10102 (OMB control number: 0938-0981); Frequency: Occasionally; Affected Public: Private Sector, Business or other for-profits, Not-for-profits institutions; Number of Respondents: 2,304,450; Number of Responses: 2,304,450; Total Annual Hours: 282,366. (For policy questions regarding this collection, contact William G. Lehrman at 410-786-1037.)

3. Type of Information Collection Request: New collection (Request for a new OMB control number); Title of Information Collection: CMS Health Equity Award—Call for Nominations; Use: CMS Office of Minority Health (OMH) is going to announce a call for nominations for the 2024 CMS Health Equity Award. This award will recognize organizations who demonstrate they have advanced health equity by designing, implementing, and operationalizing policies and programs that support health for all the people served by our programs, reducing avoidable differences in health outcomes experienced by people who are underserved, and provided the care and support that CMS enrollees need to thrive.

The goals of the award are to encourage organizations to identify and address their health disparities, to disseminate best practices, and to show that progress is possible by having a results-oriented focus. By identifying organizations who are successfully closing gaps and reducing disparities, CMS can show our stakeholders how health equity work can be initiated, targeted, measured, and successfully reduce disparities among communities nationwide.

CMS Representatives collect Company Name, Point of Contact Information (email, phone# & name) along with information from the organizations regarding their programs to improve the health quality, outcomes, and access to care for the communities that they serve. The CMS selection committee uses a scoring rubric to score the applicants on demonstrated measurable results in reducing a disparity in one or more of the CMS priority populations. Form Number: CMS-10866 (OMB control number: 0938-NEW); Frequency: Annually; Affected Public: Federal Government, Business or other for-profits and Not-for-profit institutions; Number of Respondents: 50; Number of Responses: 50; Total Annual Hours: 100. (For policy questions regarding this collection, contact Ashley Peddicord-Austin at 410-786-0757.)

4. Type of Information Collection Request: Extension of a currently approved collection; Title of Information Collection: Withholding Medicare Payments to Recover Medicaid Overpayments and Supporting Regulations in 42 CFR 447.31; Use: Certain Medicaid providers that are subject to offsets for the collection of Medicaid overpayments may terminate or substantially reduce their participation in Medicaid, leaving the state Medicaid agency unable to recover the amounts due. Recovery procedures allow for determining the amount of overpayments and offsetting the overpayments by withholding the provider's Medicare payments. To effectuate the withholding, the state agency must provide their respective CMS regional office with certain documentation that identifies the provider and the Medicaid overpayment amount. The agency must also demonstrate that the provider was notified of the overpayment and that demand for the overpayment was made. An opportunity to appeal the overpayment determination must be afforded to the provider by the Medicaid state agency. Lastly, Medicaid state agencies must notify CMS when to terminate the withholding; Form Number: CMS-R-21 (OMB control number: 0938-0287); Frequency: Occasionally; Affected Public: State, Local, or Tribal Governments; Number of Respondents: 54; Total Annual Responses: 27; Total Annual Hours: 81. (For policy questions regarding this collection contact Stuart Goldstein at 410-786-0694.)

Dated: November 20, 2023.
William N. Parham, III,
Director, Paperwork Reduction Staff, Office of Strategic Operations and Regulatory Affairs.

[FR Doc. 2023-25976 Filed 11-22-23; 8:45 am]

BILLING CODE 4120-01-P